FEDERAL COMMUNICATIONS COMMISSION

[MD Docket No. 20-270; DA 21-747; FR ID 35696]

Schedule of Application Fees of the Commission's Rules

AGENCY: Federal Communications Commission.

ACTION: Public notice.

SUMMARY: The Commission announces the effective date of new application fee rates for the Office of Engineering and Technology and for Media Services.

DATES: Applicable July 15, 2021.

FOR FURTHER INFORMATION CONTACT: Roland Helvajian, Office of Managing Director at (202) 418-0444.

SUPPLEMENTARY INFORMATION: The Commission adopted new application fee rates in a Report and Order, FCC 20-184, MD Docket No. 20-270, adopted on December 23, 2020 and released on December 29, 2020. This document provides notice that new application fee rates will become effective on July 15, 2021 for the Office of Engineering and Technology and the Media Bureau.

DA 21-747

Released: June 25, 2021

Effective Date of New Application Fees for the Office of Engineering and Technology and the Media Bureau

MD Docket No. 20-270

On December 23, 2020, the Commission adopted a Report and Order implementing a new application fee schedule which significantly updated the Commission's previous fee schedule.¹ As indicated in the 2020 Application Fee Report and Order, the new application fee rates will become effective when the Commission's “information technology systems and internal procedures have been updated, and the Commission publishes notice(s) in the Federal Register announcing the effective date of such rules.” ² At this time, the systems and internal procedures have been updated for the Office of Engineering and Technology and for the Media Bureau. This Public Notice therefore announces that the new application fee rates in sections 1.1103 and 1.1104 of Commission's rules will become effective on July 15, 2021.³

¹ See Amendment of the Schedule of Application Fees Set Forth in Sections 1.1102 through 1.1109 of the Commission's Rules, MD Docket No, 20-270, Report and Order, 35 FCC Rcd 15089 (2020) (2020 Application Fee Report and Order). Pursuant to section 8(b)(1) of the Communications Act of 1934, as amended, the Commission is required to review application fees in every even-numbered year, adjust the fees to reflect increases or decreases in the Consumer Price Index, and round to the nearest $5 increment. See 47 U.S.C. 158(b)(1).

² 2020 Application Fee Report and Order at 15155, para. 201.

³ See 47 CFR 1.1103 (Schedule of charges for experimental radio services.), 1.1104 (Schedule of charges for applications and other filings for media services.). Applicants must continue to pay the current fees for their applications under the existing procedures until the new procedures and fees are in effect for their applications. The Commission will announce the effective date of the new application fee rates in sections 1.1102, 1.1105, 1.1106, 1.1107, and 1.1109 of the Commission's once the applicable information technology systems and internal procedures have been updated for those fees. See 47 CFR 1.1102, 1.1105, 1.1106, 1.1107, and 1.1109.

For further information regarding this Public Notice, please contact Roland Helvajian, Program Analyst, Financial Operations, Office of the Managing Director, Roland.Helvajian@fcc.gov.

Katura Jackson,
Federal Register Liaison Officer.

[FR Doc. 2021-14270 Filed 7-2-21; 8:45 am]

BILLING CODE 6712-01-P